DEPARTMENT OF ENERGY

Federal Energy Regulatory Commission

Combined Notice of Filings # 1

March 10, 2008.

Take notice that the Commission received the following electric corporate filings:

Docket Numbers: EC08-49-000.

Applicants: Southaven Power, LLC; Kelson Energy III LLC.

Description: Southaven Power, LLC and Kelson Energy III LLC submit an application for order authorizing disposition of jurisdictional facilities.

Filed Date: 02/26/2008.

Accession Number: 20080305-0049.

Comment Date: 5 p.m. Eastern Time on Tuesday, March 18, 2008.

Docket Numbers: EC08-50-000.

Applicants: Entergy Services, Inc.; Entergy Nuclear Generation Company; Entergy Nuclear Fitzpatrick, LLC; Entergy Nuclear Indian Point 2, LLC; Entergy Nuclear Indian Point 3, LLC; Entergy Nuclear Palisades, LLC; Entergy Nuclear Vermont Yankee, LLC; Entergy Power Ventures, L.P.; Entergy Nuclear Power Marketing, LLC; EWO Marketing, LP; Warren Power, LLC; EAM Nelson Holding, LLC; Entergy Power, Inc.

Description: Entergy Nuclear Generation Company et al. submit the Joint Application for authorization to acquire securities.

Filed Date: 03/04/2008.

Accession Number: 20080306-0017.

Comment Date: 5 p.m. Eastern Time on Tuesday, March 25, 2008.

Docket Numbers: EC08-51-000.

Applicants: IPP Energy LLC; Standard Binghamton LLC.

Description: Standard Binghamton LLC et al. submits a Joint Application for Authorization under section 203 of the Federal Power Act.

Filed Date: 03/04/2008.

Accession Number: 20080306-0030.

Comment Date: 5 p.m. Eastern Time on Tuesday, March 25, 2008.

Take notice that the Commission received the following exempt wholesale generator filings:

Docket Numbers: EG08-48-000.

Applicants: Standard Binghamton LLC.

Description: Standard Binghamton LLC submits a notice of self-certification of exempt wholesale generator status under EG08-48.

Filed Date: 03/04/2008.

Accession Number: 20080306-0026.

Comment Date: 5 p.m. Eastern Time on Tuesday, March 25, 2008.

Take notice that the Commission received the following electric rate filings:

Docket Numbers: ER96-1088-046; ER02-2199-011; ER03-54-011; ER03-56-011; ER01-1114-012; ER97-2758-019.

Applicants: WPS Energy Services, Inc.; WPS Empire State, Inc.; WPS Beaver Falls Generation, Inc.; WPS Syracuse Generation, LLC; WPS Westwood Generation, DDC; Advantage Energy, Inc.

Description: Application by Integrys Northeast Companies for Category 1 Status and Alternatives Request for Category 2 Exempt pursuant to Paragraph 868 or Order 697 re WPS Energy Services Inc et al.

Filed Date: 02/29/2008.

Accession Number: 20080306-0016.

Comment Date: 5 p.m. Eastern Time on Friday, March 21, 2008.

Docket Numbers: ER03-478-021; ER08-387-003; ER06-200-014; ER07-254-006; ER03-1326-014; ER07-460-005; ER05-534-015; ER05-365-015; ER05-1262-014; ER06-1093-010; ER03-296-017; ER01-3121-016; ER02-418-015; ER03-416-018; ER05-332-015; ER07-287-008; ER07-242-008; ER03-951-017; ER04-94-015; ER02-417-015; ER07-1378-005; ER05-1146-015; ER05-481-015; ER07-240-009; ER07-195-006; ER02-2085-010.

Applicants: PPM Energy; Atlantic Renewables Projects II LLC; Big Horn Wind Project LLC; Casselman Windpower, LLC; Colorado Green Holdings, LLC; Dillon Wind LLC; Eastern Desert Power LLC; Elk River Windfarm LLC; Flat Rock Windpower LLC; Flat Rock Windpower II LLC; Flying Cloud Power Partners, LLC; Klamath Energy LLC; Klamath Generation LLC; Klondike Wind Power LLC; Klondike Wind Power II LLC; Klondike Wind Power III LLC; MinnDakota Wind LLC; Moraine Wind LLC; Mountain View Power Partners III, LLC; Phoenix Wind Power LLC; Providence Heights Wind, LLC; Shiloh I Wind Project, LLC; Trimont Wind I LLC; Twin Buttes Wind LLC; Locust Ridge Wind Farm, LLC; Northern Iowa Windpower II, LLC.

Description: PPM Energy Inc et al. notify FERC of a change in status resulting from the completion of the transaction authorized by FERC in its order issued on 1/24/08.

Filed Date: 02/28/2008.

Accession Number: 20080306-0018.

Comment Date: 5 p.m. Eastern Time on Thursday, March 20, 2008.

Docket Numbers: ER03-478-022; ER08-387-004; ER06-200-015; ER07-254-007; ER03-1326-015; ER07-460-006; ER05-534-016; ER05-365-016; ER05-1262-015; ER06-1093-011; ER03-296-018; ER01-3121-017; ER02-418-016; ER03-416-019; ER05-332-016; ER07-287-009; ER07-242-009; ER03-951-018; ER04-94-016; ER02-417-016; ER07-1378-006; ER05-1146-016; ER05-481-016; ER07-240-010; ER07-195-007; ER02-2085-011.

Applicants: PPM Energy; Atlantic Renewables Projects II LLC; Big Horn Wind Project LLC; Casselman Windpower, LLC; Colorado Green Holdings, LLC; Dillon Wind LLC; Eastern Desert Power LLC; Elk River Windfarm LLC; Flat Rock Windpower LLC; Flat Rock Windpower II LLC; Flying Cloud Power Partners, LLC; Klamath Energy LLC; Klamath Generation LLC; Klondike Wind Power LLC; Klondike Wind Power II LLC; Klondike Wind Power III LLC; MinnDakota Wind LLC; Moraine Wind LLC; Mountain View Power Partners III, LLC; Phoenix Wind Power LLC; Providence Heights Wind, LLC; Shiloh I Wind Project, LLC; Trimont Wind I LLC; Twin Buttes Wind LLC; Locust Ridge Wind Farm, LLC; Northern Iowa Windpower II, LLC.

Description: The Iberdrola Companies submit a Notice of Change with respect to the acquisition of an interest in MinnDakota Wind LLC that they inadvertently failed to file with the 10/25/07 et al. submittals.

Filed Date: 03/03/2008.

Accession Number: 20080306-0019.

Comment Date: 5 p.m. Eastern Time on Monday, March 24, 2008.

Docket Numbers: ER03-1094-003; ER07-955-001.

Applicants: Southern California Edison Company.

Description: Southern California Edison Co submits workpapers showing the monthly amounts paid, revenue receipt dates and the monthly interest calculations for each month re its Refund Report.

Filed Date: 03/04/2008.

Accession Number: 20080307-0083.

Comment Date: 5 p.m. Eastern Time on Tuesday, March 25, 2008.

Docket Numbers: ER05-6-104; EL04-135-107; EL02-111-124; EL03-212-120.

Applicants: Midwest Independent System Operator, Inc.

Description: Midwest Independent Transmission System Operation Inc et al. submits the Joint Operating Agreement between the Midwest Independent Transmission System Operation Inc and PJM Interconnection, LLC to comply with the 30 day compliance filing etc.

Filed Date: 03/03/2008.

Accession Number: 20080306-0023.

Comment Date: 5 p.m. Eastern Time on Monday, March 24, 2008.

Docket Numbers: ER06-738-010; ER06-739-010; ER03-983-009; ER07-501-006; ER02-537-013; ER07-758-005.

Applicants: Fox Energy Company LLC; Birchwood Power Partners, L.P.; Inland Empire Energy Center, L.L.C.; Shady Hills Power Company, L.L.C.; Cogen Technologies Linden Ventures, L.P.; East Coast Power Linden Holding, LLC.

Description: Notice of Change in Status of East Coast Power Linden Holding, LLC, et al.

Filed Date: 03/05/2008.

Accession Number: 20080307-5042.

Comment Date: 5 p.m. Eastern Time on Wednesday, March 26, 2008.

Docket Numbers: ER07-546-012; ER07-938-001.

Applicants: ISO New England Inc.

Description: ISO New England Inc submits Report on Seasonal Resources to comply with FERC's 4/16/07 Order.

Filed Date: 02/29/2008.

Accession Number: 20080305-0040.

Comment Date: 5 p.m. Eastern Time on Friday, March 21, 2008.

Docket Numbers: ER08-194-002.

Applicants: Duquesne Light Company.

Description: Duquesne Light Company 45-day compliance filing responding to FERC's 1/17/08 Order.

Filed Date: 03/03/2008.

Accession Number: 20080306-5035.

Comment Date: 5 p.m. Eastern Time on Monday, March 24, 2008.

Docket Numbers: ER08-495-001.

Applicants: Kimberly-Clark Corporation.

Description: Kimberly-Clark Corp submits an Amendment to the Petition for Acceptance of Initial Rate Schedule, Waivers and Blanket Authority.

Filed Date: 03/05/2008.

Accession Number: 20080306-0045.

Comment Date: 5 p.m. Eastern Time on Wednesday, March 26, 2008.

Docket Numbers: ER08-503-001.

Applicants: MidAmerican Energy Company.

Description: MidAmerican Energy Company submits Substitute Original Issue Sheet 3 and 4.

Filed Date: 03/05/2008.

Accession Number: 20080307-0073.

Comment Date: 5 p.m. Eastern Time on Wednesday, March 26, 2008.

Docket Numbers: ER08-563-001.

Applicants: PJM Interconnection, L.L.C.

Description: PJM Interconnection LLC submits an executed interconnection service agreement with Shaffer Mountain Wind LLC et al., designated as Original Service Agreement 1843 under ER08-563.

Filed Date: 02/29/2008.

Accession Number: 20080306-0022.

Comment Date: 5 p.m. Eastern Time on Friday, March 21, 2008.

Docket Numbers: ER08-635-000.

Applicants: PJM Interconnection, L.L.C.

Description: PJM Interconnection, LLC submits an executed service agreement for network integration transmission service.

Filed Date: 03/04/2008.

Accession Number: 20080306-0044.

Comment Date: 5 p.m. Eastern Time on Tuesday, March 25, 2008.

Docket Numbers: ER08-636-000.

Applicants: Standard Binghamton LLC.

Description: Stand Binghamton LLC submits a Petition for Acceptance of Initial Rate Schedule, Waivers and Blanket Authority.

Filed Date: 03/04/2008.

Accession Number: 20080306-0043.

Comment Date: 5 p.m. Eastern Time on Tuesday, March 25, 2008.

Docket Numbers: ER08-637-000.

Applicants: Midwest Independent Transmission System.

Description: Midwest Independent Transmission System Operator, Inc et al. submits proposed revisions to its Open Access Transmission and Energy Markets Tariff, to be effective 6/1/08.

Filed Date: 03/04/2008.

Accession Number: 20080306-0047.

Comment Date: 5 p.m. Eastern Time on Tuesday, March 25, 2008.

Docket Numbers: ER08-638-000.

Applicants: Crafton LLC.

Description: Crafton LLC submits petition for acceptance of FERC Electric Tariff, Original Volume 1, waivers and blanket authority.

Filed Date: 03/05/2008.

Accession Number: 20080307-0075.

Comment Date: 5 p.m. Eastern Time on Wednesday, March 26, 2008.

Docket Numbers: ER08-639-000.

Applicants: Midwest Independent Transmission System.

Description: Midwest Independent Transmission System Operator Inc submits a notice of cancellation of Service Agreement 5 to FERC Electric Tariff, Third Revised Volume 1.

Filed Date: 03/05/2008.

Accession Number: 20080307-0076.

Comment Date: 5 p.m. Eastern Time on Wednesday, March 26, 2008.

Docket Numbers: ER08-640-000.

Applicants: PJM Interconnection, L.L.C.

Description: PJM Interconnection LLC submits an executed interconnection construction service agreement with Conectiv Atlantic Generation, LLC etc.

Filed Date: 03/05/2008.

Accession Number: 20080307-0077.

Comment Date: 5 p.m. Eastern Time on Wednesday, March 26, 2008.

Docket Numbers: ER08-642-000.

Applicants: ENDEAVOR POWER PARTNERS, LLC.

Description: Endeavor Power Partners, LLC submits a notice of termination of FERC Electric Tariff, Original Volume 1.

Filed Date: 03/04/2008.

Accession Number: 20080306-0046.

Comment Date: 5 p.m. Eastern Time on Tuesday, March 25, 2008.

Take notice that the Commission received the following electric securities filings:

Docket Numbers: ES08-26-000.

Applicants: PJM Interconnection, L.L.C.

Description: PJM supplements its Application by submitting revised 2006 to 2008 computations of interest coverage to replace the computations of interest coverage originally submitted.

Filed Date: 03/05/2008.

Accession Number: 20080307-5012.

Comment Date: 5 p.m. Eastern Time on Monday, March 17, 2008.

Take notice that the Commission received the following open access transmission tariff filings:

Docket Numbers: OA07-25-002.

Applicants: DUKE ENERGY CAROLINAS, LLC.

Description: Duke Energy Carolinas LLC submits its open access tariff compliance filing.

Filed Date: 03/03/2008.

Accession Number: 20080306-0025.

Comment Date: 5 p.m. Eastern Time on Monday, March 24, 2008.

Docket Numbers: OA07-50-001.

Applicants: Alcoa Power Generating Inc.—Yadkin.

Description: Alcoa Power Generating, Inc submits its clean and blacklined Open Access Transmission Tariff sheets containing the requested revisions.

Filed Date: 03/03/2008.

Accession Number: 20080306-0027.

Comment Date: 5 p.m. Eastern Time on Monday, March 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-5365 Filed 3-17-08; 8:45 am]

BILLING CODE 6717-01-P